DEPARTMENT OF ENERGY

Federal Energy Regulatory Commission

[Project No. 12966-005; Docket No. EL18-56-000]

Utah Board of Water Resources; Notice Suspending Procedural Schedule

On December 11, 2017, the Commission issued notice that the license application for the proposed Lake Powell Pipeline Project No. 12966 is accepted for filing, soliciting motions to intervene and protests, ready for environmental analysis, and soliciting comments, recommendations, terms and conditions, and prescriptions. The notice established a deadline of 60 days from issuance for initial filings and 105 days from issuance for reply comments.

On December 27, 2017, Utah Board of Water Resources (Utah BWR), applicant for the proposed Lake Powell Pipeline Project, filed a petition for declaratory order (petition) pursuant to Rule 207(a)(2) of the Federal Energy Regulatory Commission's Rules of Practice and Procedure, 18 CFR 385.207(a)(2). Utah BWR requests that the Commission declare that the Commission's licensing jurisdiction under the Federal Power Act (FPA) includes all of the project facilities identified in the license application as the “Hydro System,” in particular, the penstock alignments there described as associated with the hydroelectric generating facilities. Together with the petition, Utah BWR filed a motion to suspend the procedural schedule for the licensing proceeding until the Commission rules on the petition.

The Commission is requesting comments on the petition by separate notice. Utah BWR asserts that the Commission's resolution of the jurisdictional issues may affect the status under sections 4(e) and 33 of the FPA of any preliminary conditions provided by the Bureau of Land Management (BLM) for the 50 miles of penstock alignments in the Hydro System that would traverse BLM lands using the Southern Route, or provided by the Bureau of Indian Affairs (BIA) for the 16.5 miles of penstock alignments in the Hydro System that would traverse the Kaibab Indian Reservation under the alternative route. To avoid possible confusion regarding these preliminary conditions, Utah BWR's request to suspend the procedural schedule is granted, effective immediately, until after the Commission issues a decision on the petition. Therefore, the deadline for filing motions to intervene and protests, comments, recommendations, terms and conditions, and prescriptions is extended to 60 days after issuance of a Commission decision on the petition, and the deadline for filing reply comments is extended to 105 days after issuance of a Commission decision on the petition.

Dated: January 11, 2018.
Kimberly D. Bose,
Secretary.

[FR Doc. 2018-00752 Filed 1-17-18; 8:45 am]

BILLING CODE 6717-01-P